DEPARTMENT OF AGRICULTURE

Foreign Agricultural Service

Notice of Request for Extension of a Currently Approved Information Collection

AGENCY: Foreign Agricultural Service, USDA.

ACTION: Notice and request for comments.

SUMMARY: In accordance with the Paperwork Reduction Act of 1995, this notice announces that the Foreign Agricultural Service (FAS) intends to request an extension for a currently approved information collection procedure for Sugar Import Licensing Programs described in 7 CFR part 1530.

DATES: Comments should be received on or before August 28, 2001 to be assured of consideration.

ADDRESSES: Mail or deliver comments to Richard J. Blabey, Director, Import Policies and Programs Division, Foreign Agricultural Service, U.S. Department of Agriculture, Stop 1021, 1400 Independence Ave. SW, Washington, DC 20250-1021.

FOR FURTHER INFORMATION CONTACT: Richard J. Blabey, at the address above, or telephone at (202) 720-2916 or e-mail at Blabey@fas.usda.gov.

SUPPLEMENTARY INFORMATION: Title: The Reinforced Sugar Re-Export Program, The Sugar Containing Products Re-Export Program, and the Polyhydric Alcohol Program.

OMB Number: 0551-0015.

Expiration Date of Approval: August 31, 2001.

Type of Request: Extension of a currently approved information collection.

Abstract: The primary objective of the Sugar Import Licensing Program is to permit entry of raw cane sugar exempt from the sugar tariff-rate quota for re-export in refined form or in a sugar containing product or for the production of certain polyhydric alcohols. These programs are in use by as many as 400 licensees currently eligible to participate. Under 7 CFR part 1530, licensees are required to submit the following: (1) “Application for a license” information required for participation as outlined in sections 1530.104; (2) “Regular reporting” of import, export, transfer, or use for charges and credits to licenses under section 1530.109; and (3) “miscellaneous submission” of bonds or letters of credit under section 1530.107, appeals to determinations by the licensing authority under section 1530.12, or requests to the licensing authority for waivers under section 1530.113. In addition, each participant must maintain records on all programs reports as set forth in section 1530.110. The information collected is used by the licensing authority to manage, plan, evaluate and account for program activities. The reports and records are required to ensure the proper operation of these programs.

Estimate of Burden: (1) “application for a license” would require 20 hours per response; (2) “regular reporting” would require between 10 and 15 minutes per transaction. The number of transactions per respondent will vary; (3) “miscellaneous submission” would require between 1 or 2 hours per bond or letter of credit, 2 to 10 hours per waiver request, and 10 to 100 hours per appeal.

Respondents: Sugar refiners, manufacturers of sugar containing products and producers of polyhydric alcohol.

Estimated Number of Respondents: 250.

Estimated Number of Responses per Respondent: New/Renew License: 1; Regular reporting: 75 transactions, average; Miscellaneous: Bonds/letters of credit: 50; Waiver requests: 20; Appeals: 0.

Estimated Total Burden Hours on Respondents: 8,230 hours.

Copies of this information collection can be obtained from Kimberly Chisley, the Agency Information Collection Coordinator, at (202) 720-2568.

Request for Comments: The public is invited to submit comments and suggestions to the above address regarding the accuracy of the burden estimate, ways to minimize the burden, including the use of automated collection techniques or other forms of information technology, or any other aspect of this collection of information. Comments on issues covered by the Paperwork Reduction Act are most useful to OMB if received within 30 days of publication of the Notice and Request for Comments, but should be submitted no later than 60 days from the date of this publication to be assured of consideration. All responses to this notice will be summarized and included in the request for OMB approval. All comments will also be a matter of public record. Persons with disabilities who require an alternative means for communication of information (Braille, large print, audiotape, etc.) should contact USDA's Target Center at (202) 720-2600 (voice and TDD).

Signed at Washington, DC, on June 25, 2001.
Mary T. Chambliss,
Acting General Manager, Foreign Agricultural Service.

[FR Doc. 01-16444 Filed 6-28-01; 8:45 am]

BILLING CODE 3410-10-M